RAILROAD RETIREMENT BOARD

20 CFR Part 217

RIN 3220-AB64

Application for Annuity or Lump Sum

AGENCY: Railroad Retirement Board.

ACTION: Final rule.

SUMMARY: The Railroad Retirement Board (Board) amends its regulations to allow alternative signature methods in addition to the traditional pen-and-ink or “wet” signature in order to implement an electronic application process which will eventually eliminate the need to retain paper applications and make the application process more convenient for the individuals filing applications.

DATES: This rule will be effective September 29, 2011.

ADDRESSES: Martha P. Rico, Secretary to the Board, Railroad Retirement Board, 844 N. Rush Street, Chicago, Illinois 60611-2092.

FOR FURTHER INFORMATION CONTACT: Marguerite P. Dadabo, Assistant General Counsel, (312) 751-4945, TTD (312) 751-4701.

SUPPLEMENTARY INFORMATION: Section 5(b) of the Railroad Retirement Act (RRA) [45 U.S.C. 231d(b)] provides that an application for any payment under the Act “shall be made and filed in such manner and form as the Board may prescribe * * *” Currently, Part 217 of the Board's regulations, which sets out the rules governing applications made under the RRA, anticipates that an application will include a signature on paper, even where the application itself may be completed electronically.

In order to provide better service to our customers, the Board amends § 217.17 of its regulations in order to allow signature alternatives to the traditional pen-and-ink (“wet”) signature. The Board changes the current title of § 217.17, “Who may sign an application” to “What is an acceptable signature” and adds a new subsection (f) to describe what may be considered to be an acceptable signature. The amendment adds two different types of acceptable signatures.

The first alternate method of signature that the amendment to § 217.17 allows is the use of a personal identification number (PIN) assigned by the agency. The second alternate method is referred to as an “alternative signature” or “signature proxy.” The purpose of this amendment is to allow signature by attestation. Attestation refers to an action taken by an employee of the Railroad Retirement Board (RRB) to confirm and annotate the RRB records of (1) An applicant's intent to file or complete an application or related form, (2) the applicant's affirmation under penalty of perjury that the information is correct, and (3) the applicant's agreement to sign the application or related form. The Board expects that use of attestation to take RRA applications over the telephone will increase efficiency and be more convenient for RRB customers.

Before deciding to propose this amendment, the Board's Office of Programs obtained information about alternative signature methods used by the Social Security Administration (SSA), since it administers a retirement and disability program comparable to the Board's programs under the Railroad Retirement Act. The Office of Programs also compared the current RRB application taking process with a process using attestation to identify the differences and determine how those differences affect the process. Based on the information obtained from the comparison and from the SSA, it was determined that attestation will reduce our paper flow and handling and will work well in our current environment where the Board's Field Service already completes most applications by telephone.

Under both the current and amended systems, the RRB claims representative will identify a caller-applicant using our existing protocol and complete an application by interviewing the caller and entering the answers online into the Application Express (APPLE) system. APPLE is an online system that automates the filing of applications for retirement and survivor benefits and forwards the applications to the systems for payment. We now print out a copy of the completed application to send it to the applicant for signature and return. Under attestation, we will instead use defined scripts like SSA uses to confirm the applicant's intent to file; attest to the reply by entering the answer in APPLE; print the cover notice with penalty clause and summary, and review it with the applicant over the telephone; release the case in APPLE for processing after the telephone review of the cover notice is complete; and send the applicant a cover notice and summary to keep. We will advise the applicant to review the cover notice and summary upon receipt, and contact the RRB promptly if the applicant needs to make any corrections.

Attestation will end the return of application documents to our offices, reducing the volume of paper to be sorted, assigned, reviewed, input, scanned and indexed by the RRB.

The Board, with the concurrence of the Office of Management and Budget, has determined that this is not a significant regulatory action under Executive Order 12866, as amended. Therefore, no regulatory impact analysis is required. There are no changes to the information collections associated with Part 217.

List of Subjects in 20 CFR Part 217

Railroad employees, Railroad retirement.

For the reasons set out in the preamble, the Railroad Retirement Board amends title 20, chapter II, subchapter B, part 217 of the Code of Federal Regulations as follows:

PART 217—APPLICATION FOR ANNUITY OR LUMP SUM

1. The authority citation for part 217 continues to read as follows:

Authority: 45 U.S.C. 231d and 45 U.S.C. 231f.

2. Section 217.17 is amended by revising the section heading and paragraph (a) and adding paragraph (f) to read as follows:

§ 217.17 What is an acceptable signature.

* * * * *

(a) A claimant who is 18 years old or older, competent (able to handle his or her own affairs), and physically able to sign the application, must sign in his or her own handwriting, except as provided in paragraph (e) or paragraph (f) of this section. A parent or a person standing in place of a parent must sign the application for a child who is not yet 18 years old, except as shown in paragraph (d) of this section.

* * * * *

(f) An acceptable signature may include:

(1) A handwritten signature that complies with the rules set out in paragraphs (a), (b), (c), (d), or (e) of this section; or

(2) In the case of an application being taken and processed in the Railroad Retirement Board's automated claims system, an electronic signature, which shall consist of a personal identification number (PIN) assigned by the Railroad Retirement Board as described in the application instructions; or

(3) An alternative signature or signature proxy acceptable to the Railroad Retirement Board. An example of an alternative signature is attestation, which refers to the action taken by a Railroad Retirement Board (RRB) employee of confirming and annotating RRB records of the applicant's intent to file or complete an application or related form, the applicant's affirmation under penalty of perjury that the information provided is correct, and the applicant's agreement to sign the application or related form.

Dated: September 23, 2011.
By Authority of the Board.
Martha P. Rico,
Secretary to the Board.

[FR Doc. 2011-25108 Filed 9-28-11; 8:45 am]

BILLING CODE P